DEPARTMENT OF TRANSPORTATION

Federal Aviation Administration

Agency Information Collection Activities: Requests for Comments; Clearance of Renewed Approval of Information Collection: Certification: Pilots, Flight Instructors, and Ground Instructors

AGENCY: Federal Aviation Administration (FAA), DOT.

ACTION: Notice and request for comments.

SUMMARY: In accordance with the Paperwork Reduction Act of 1995, FAA invites public comments about our intention to request the Office of Management and Budget (OMB) approval to renew an information collection. The revision of this collection involves the logging of training time in aviation training devices under the provisions of current regulations, and the logging of flight time as a second in command (SIC) under the provisions of current regulations.

DATES: Written comments should be submitted by August 13, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION: OMB Control Number: 2120-0021.

Title: Certification: Pilots and Flight Instructors.

Form Numbers: 8710-1, 8710-13.

Type of Review: This is a revision of an existing information collection.

Background: The FAA is publishing the final rule Regulatory Relief, Aviation Training devices; Pilot Certification, Training, and Pilot Schools; and Other Provisions (RIN 2120-AK28; Docket No. FAA-2016-6142). In that rule, the FAA is reducing the burden for instrument currency requirements under § 61.57 for those pilots that use aviation training devices. Prior to that final rule, § 61.57(c)(3) required persons using an aviation training device to establish instrument experience to complete the required tasks within the preceding 2 calendar months. Persons using an aircraft, full flight simulator, flight-training device, or a combination, however, were required to establish instrument experience within the preceding 6 calendar months. 14 CFR 61.57(c)(1)-(2). The final rule amends § 61.57(c) to allow pilots to accomplish instrument experience in aviation training devices by performing the same tasks required for flight simulation training devices and aircraft, and at the same 6-month interval allowed for flight simulation training devices and aircraft.

The FAA estimates that, of the 102,811 active pilots with an instrument rating, that approximately 50% are maintaining currency. It is likely that only 15% of those pilots (approximately 15,422 pilots) are using an aviation training device exclusively to maintain their instrument currency. For those pilots, this change will reduce the recordkeeping requirements of logging time from 6 times a year to two times a year, when logging instrument currency exclusively in an aviation training device. The FAA estimates this burden reduction to be 6168.8 hours annually.

Additionally, the final rule amends § 135.99 by adding paragraph (c) to allow a certificate holder to receive approval of a second in command (SIC) professional development program (SIC PDP) via operations specifications (Ops Specs) to allow the certificate holder's pilots to log SIC time in operations conducted under part 135 in an airplane or operation that does not otherwise require a SIC. Specifically, with this final rule, § 61.159(c) allows pilots to log SIC time in part 135 operations in a single engine turbine-powered airplane or a multi-engine airplane that otherwise does not require an SIC. This will require the pilot to obtain a logbook endorsement from the pilot in command for each individual flight to log this time as SIC. The FAA estimates that of the 76,957 Commercial Pilots with airplane and instrument privileges that approximately 10% (7,696) may actively pursue a SIC position with a Part 135 operator that is approved for logging SIC time as described for this provision. But, because of the limited number of operators (approximately 457 operators as of September 28, 2017) that would qualify or actually pursue this authorization, the FAA estimates that only 15% (1,154 pilots) might actually become qualified annually to log SIC time under this provision. This additional record keeping requirement will be reflected in Section 61.159, Aeronautical experience. The FAA estimates this SIC training program burden increase is 1,154 hours annually.

Respondents: The total number of respondents in the airman certification program is estimated to be approximately 25 percent of the population of active certificated pilots and instructors. Given a population of 825,000, the result is approximately 206,250 respondents providing data on an annual basis. The total number of applicants for a remote pilot certificate with a small UAS rating is estimated to be 39,229 annually.

Frequency: As needed.

Estimated Average Burden per Response: For the hour burdens resulting from the application requirements of the collection of information other than remote pilots with small UAS ratings, the FAA estimates that forms are submitted for these certificates and ratings at an average preparation time of 15 minutes (0.25 hrs) each. The average time estimate of 0.25 hours assumes that many individual applicants will submit an 8710-1 form more than once for various reasons, and that most of the information provided on the form likely will not have changed. For Part 107 we estimate that an average of 39,229 forms are submitted annually that require an average preparation time of 0.25 hours to complete.

Estimated Total Annual Burden: The total number of annual responses for the airman certification program is estimated to be 1,196,653. The FAA estimates the total reporting burden hours to be 43,157 hours. The FAA estimates the total recordkeeping burden hours to be 282,329 hours. The FAA estimates the burden for the collection of information to be 325,486 hours annually. This is a burden reduction of 5,015 annual burden hours from the currently approved information collection.

Issued in Washington, DC, on May 30, 2018.
Barbara L. Hall,
FAA Information Collection Clearance Officer, Performance, Policy, and Records Management Branch, ASP-110.

[FR Doc. 2018-12796 Filed 6-13-18; 8:45 am]

BILLING CODE 4910-13-P